DEPARTMENT OF ENERGY

Federal Energy Regulatory Commission

[Project No. 14653-000]

Twain Resources, LLC; Notice of Preliminary Permit Application Accepted for Filing and Soliciting Comments, Motions To Intervene, and Competing Applications

On December 10, 2014, Twain Resources, LLC, filed an application for a preliminary permit, pursuant to section 4(f) of the Federal Power Act (FPA), proposing to study the feasibility of the Easygo Hydroelectric Project (Easygo Project or project) to be located in an inactive underground mine adjacent to Morgan Creek near the City of Bishop, in Inyo County, California. The sole purpose of a preliminary permit, if issued, is to grant the permit holder priority to file a license application during the permit term. A preliminary permit does not authorize the permit holder to perform any land-disturbing activities or otherwise enter upon lands or waters owned by others without the owners' express permission.

The proposed project would consist of the following: (1) An existing 12-foot-high by 12-foot-wide by 30-foot-thick reinforced concrete plug inside a 12,000-foot-long mine access tunnel capable of storing water up to 1,320 feet of gross head; (2) a 200-acre-foot in-mine reservoir that backs up water inside the mine to a maximum elevation of 9,400 feet above sea level; (3) a 24-inch or 18-inch steel penstock through the concrete plug connecting to a 1,500 kilowatt impulse turbine; (4) a 1.573 kilovolt-amp generator; (5) an approximately 2,500-foot-long transmission line connecting the generator to a California Edison-owned substation; and (6) appurtenant facilities. The estimated annual generation of the Easygo Project would be 5,600 megawatt-hours.

Applicant Contact: Mr. Doug Hicks, 280 Floreca Way, Reno, Nevada 89511, phone (775) 997-3429.

FERC Contact: Joseph Hassell; phone: (202) 502-8079.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14653-000.

More information about this project, including a copy of the application, can be viewed or printed on the “eLibrary” link of Commission's Web site at http://www.ferc.gov/docs-filing/elibrary.asp. Enter the docket number (P-14653) in the docket number field to access the document. For assistance, contact FERC Online Support.

Dated: January 5, 2016.
Nathaniel J. Davis, Sr.,
Deputy Secretary.

[FR Doc. 2016-00285 Filed 1-8-16; 8:45 am]

BILLING CODE 6717-01-P